INTERNATIONAL TRADE COMMISSION

[USITC SE-11-039]

Government in the Sunshine Act Meeting Notice

AGENCY HOLDING THE MEETING: United States International Trade Commission.

TIME AND DATE: January 5, 2012 at 11 a.m.

PLACE: Room 101, 500 E Street SW., Washington, DC 20436, Telephone: (202) 205-2000.

STATUS: Open to the public.

MATTERS TO BE CONSIDERED: 1. Agendas for future meetings: none.

2. Minutes.

3. Ratification List.

4. Vote in Inv. No. 731-TA-410 (Third Review) (Light-Walled Rectangular Pipe from Taiwan). The Commission is currently scheduled to transmit its determination and Commissioners' opinions to the Secretary of Commerce on or before January 17, 2012.

5. Outstanding action jackets: none.

In accordance with Commission policy, subject matter listed above, not disposed of at the scheduled meeting, may be carried over to the agenda of the following meeting.

By order of the Commission.
Issued: December 20, 2011.
William R. Bishop,
Hearings and Meetings Coordinator.

[FR Doc. 2011-32986 Filed 12-20-11; 4:15 pm]

BILLING CODE 7020-02-P